DEPARTMENT OF TRANSPORTATION

Federal Aviation Administration

14 CFR Part 39

[Docket No. FAA-2005-22147; Directorate Identifier 2005-NM-114-AD; Amendment 39-14371; AD 2005-23-13]

RIN 2120-AA64

Airworthiness Directives; Empresa Brasileira de Aeronautica S.A. (EMBRAER) Model EMB-135 Airplanes, and Model EMB-145, -145ER, -145MR, -145LR, -145XR, -145MP, and -145EP Airplanes

AGENCY: Federal Aviation Administration (FAA), Department of Transportation (DOT).

ACTION: Final rule.

SUMMARY: The FAA is adopting a new airworthiness directive (AD) for certain EMBRAER Model EMB-135 airplanes, and Model EMB-145, -145ER, -145MR, -145LR, -145XR, -145MP, and -145EP airplanes. This AD requires modification of the logic of the steering system of the nose landing gear (NLG) wheel. This AD results from reports of the loss of directional control of the airplane on the ground after an internal failure of the NLG wheel steering system. We are issuing this AD to prevent failure of the NLG wheel steering system, which could result in reduced controllability of the airplane.

DATES: This AD becomes effective December 19, 2005.

The Director of the Federal Register approved the incorporation by reference of certain publications listed in the AD as of December 19, 2005.

ADDRESSES: You may examine the AD docket on the Internet at http://dms.dot.gov or in person at the Docket Management Facility, U.S. Department of Transportation, 400 Seventh Street SW., Nassif Building, room PL-401, Washington, DC.

Contact Empresa Brasileira de Aeronautica S.A. (EMBRAER), P.O. Box 343—CEP 12.225, Sao Jose dos Campos—SP, Brazil, for service information identified in this AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain EMBRAER Model EMB-135 airplanes, and Model EMB-145, -145ER, -145MR, -145LR, -145XR, -145MP, and -145EP airplanes. That NPRM was published in the Federal Register on August 22, 2005 (70 FR 48906). That NPRM proposed to require modification of the logic of the steering system of the nose landing gear (NLG) wheel.

Comments

We provided the public the opportunity to participate in the development of this AD. We have considered the comments received.

Request To Reference Latest Revision of EMBRAER Service Bulletins

Two commenters request that the NPRM reference EMBRAER Service Bulletin 145-32-0104, Revision 03, dated June 21, 2005 (EMBRAER Service Bulletin 145-32-0104, dated January 18, 2005, is referenced as an appropriate source of service information for doing the actions specified in the NPRM). One commenter proposes revising paragraphs (c) and (f) of the NPRM to reference Revision 03 of the service bulletin. The same commenter also requests that EMBRAER Service Bulletin 145-32-0104, dated January 18, 2005; EMBRAER Service Bulletin 145-32-0104, Revision 01, dated April 14, 2005; and EMBRAER Service Bulletin 145-32-0104, Revision 02, dated May 19, 2005; be considered acceptable for compliance with the NPRM.

The same commenter also requests that paragraphs (c) and (f) of the NPRM be revised to reference EMBRAER Service Bulletin 145LEG-32-0020, Revision 01, June 21, 2005 (EMBRAER Service Bulletin 145LEG-32-0020, dated April 1, 2005, is referenced as an appropriate source of service information for doing the actions specified in the NPRM). In addition, the commenter requests that EMBRAER Service Bulletin 145LEG-32-0020, dated April 1, 2005, be considered acceptable for compliance with the NPRM.

We agree with the commenters. The procedures in Revision 01 of EMBRAER Service Bulletin 145LEG-32-0020 are essentially the same as those in the original issue of the service bulletin. Revision 01 was issued to correct certain diagrams.

The procedures in Revision 03 of EMBRAER Service Bulletin 145-32-0104 are essentially the same as those in the original issue of the service bulletin. Revisions 01 and 02 were issued to revise certain figures. Revisions 01 and 02 were also issued to split the effectivity of the service bulletin into groups and clarify that serial numbers 14500839, 14500848, and 14500882 have an equivalent factory-incorporated modification and are not affected airplanes. Revision 03 was issued to update kit information.

No airplanes have been added to the effectivity of any revision of EMBRAER Service Bulletin 145-32-0104 or 145LEG-32-0020.

We have revised paragraphs (c) and (f) of this AD to reference EMBRAER Service Bulletin 145-32-0104, Revision 03, dated June 21, 2005; and EMBRAER Service Bulletin 145LEG-32-0020, Revision 01, June 21, 2005. We have also added a new paragraph (g) to this AD to state that actions accomplished according to the previous issues of the service bulletins are acceptable for compliance with the corresponding requirements of this AD.

Clarification of Alternative Method of Compliance (AMOC) Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

This AD will affect about 620 airplanes of U.S. registry. The actions will take about 6 work hours per airplane, at an average labor rate of $65 per work hour. Required parts will cost between $49 and $391. Based on these figures, the estimated cost of the AD for U.S. operators is between $272,180 and $484,220, or between $439 and $781 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-23-13 Empresa Brasileira de Aeronautica S.A. (EMBRAER): Amendment 39-14371. Docket No. FAA-2005-22147; Directorate Identifier 2005-NM-114-AD.

Effective Date

(a) This AD becomes effective December 19, 2005.

Affected ADs

(b) None.

Applicability

(c) This AD applies to EMBRAER Model EMB-135BJ airplanes, identified in EMBRAER Service Bulletin 145LEG-32-0020, Revision 01, June 21, 2005; and Model EMB-135ER, -135KE, -135KL, and -135LR airplanes, and Model EMB-145, -145ER, -145MR, -145LR, -145XR, -145MP, and -145EP airplanes, identified in EMBRAER Service Bulletin 145-32-0104, Revision 03, dated June 21, 2005; certificated in any category.

Unsafe Condition

(d) This AD results from reports of the loss of directional control of the airplane on the ground after an internal failure of the steering system of the nose landing gear (NLG) wheel. We are issuing this AD to prevent failure of the NLG wheel steering system, which could result in reduced controllability of the airplane.

Compliance

(e) You are responsible for having the actions required by this AD performed within the compliance times specified, unless the actions have already been done.

Modification

(f) Within 6,000 flight hours or 36 months after the effective date of this AD, whichever occurs first, modify the logic of the NLG wheel steering system in accordance with the Accomplishment Instructions of EMBRAER Service Bulletin 145LEG-32-0020, Revision 01, June 21, 2005 (for Model EMB-135BJ airplanes); or EMBRAER Service Bulletin 145-32-0104, Revision 03, dated June 21, 2005 (for Model EMB-135ER, -135KE, -135KL, and -135LR airplanes; and Model EMB-145, -145ER, -145MR, -145LR, -145XR, -145MP, and -145EP airplanes); as applicable.

Actions Accomplished in Accordance With Previous Issues of Service Bulletins

(g) Actions accomplished before the effective date of this AD in accordance with the service bulletins listed in Table 1 of this AD are considered acceptable for compliance with the corresponding actions specified in this AD.

Table 1.—Previous Issues of Service Bulletins
EMBRAER service bulletin | Revision level | Date
145-32-0104 | Original | January 18, 2005.
145-32-0104 | 01 | April 4, 2005.
145-32-0104 | 02 | May 19, 2005.
145LEG-32-0020 | Original | April 1, 2005.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(i) Brazilian airworthiness directive 2005-04-02, dated April 30, 2005, also addresses the subject of this AD.

Material Incorporated by Reference

(j) You must use EMBRAER Service Bulletin 145LEG-32-0020, Revision 01, June 21, 2005; or EMBRAER Service Bulletin 145-32-0104, Revision 03, dated June 21, 2005; as applicable, to perform the actions that are required by this AD, unless the AD specifies otherwise. EMBRAER Service Bulletin 145LEG-32-0020, Revision 01, June 21, 2005, contains the following effective pages:

Page number | Revision level shown on page | Date shown on page
1, 2, 15, 19 | 01 | June 21, 2005.
3-14, 16-18, 20, 21 | Original | April 1, 2005.

The Director of the Federal Register approved the incorporation by reference of these documents in accordance with 5 U.S.C. 552(a) and 1 CFR part 51. Contact Empresa Brasileira de Aeronautica S.A. (EMBRAER), P.O. Box 343—CEP 12.225, Sao Jose dos Campos—SP, Brazil, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on November 2, 2005.
Ali Bahrami,
Manager, Transport Airplane Directorate, Aircraft Certification Service.

[FR Doc. 05-22308 Filed 11-10-05; 8:45 am]

BILLING CODE 4910-13-P